DEPARTMENT OF LABOR

Employment and Training Administration

[TA-W-53,416]

Wolverine Pattern and Machine, Inc., Saginaw, MI; Notice of Negative Determination Regarding Application for Reconsideration

By application of January 5, 2004, the International Association of Machinists and Aerospace Workers Local Patternmakers 2839 requested administrative reconsideration of the Department's negative determination regarding eligibility to apply for Trade Adjustment Assistance (TAA), applicable to workers and former workers of the subject firm. The denial notice was signed on December 9, 2003, and published in the Federal Register on January 16, 2004 (69 FR 2622).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Wolverine Pattern and Machine, Inc., Saginaw, Michigan was denied because the “contributed importantly” group eligibility requirement of Section 222 of the Trade Act of 1974, as amended, was not met. The “contributed importantly” test is generally demonstrated through a survey of customers of the workers' firm and/or through a survey of firms to which the subject firm submitted bids. In this case, the bid survey revealed that none of the respondent customer firms awarded their bids for industrial molds and tooling to foreign competitors. The subject firm did not import industrial molds and tooling in the relevant period nor did it shift production to a foreign country.

The petitioner refers to the subject firm's competitor, National Pattern, Inc., Saginaw, Michigan, which also filed a petition for TAA and was certified on December 3, 2003. The petitioner states that workers of the subject firm and workers of National Pattern, Inc. build tooling for the Foundry and Mold Industry and both firms are impacted by foreign competition. The Union further alleges that because workers of National Pattern, Inc. were certified eligible for TAA, workers of the subject firm should also be eligible.

A review of competitors is not relevant to an investigation concerning import impact on workers applying for trade adjustment assistance. The review of both cases revealed that workers of Wolverine Pattern & Machine, Inc. and National Pattern, Inc. are engaged in the production for Foundry and Mold Industry; however, they do not share the same customer base and have no affiliation with each other. As noted above, “contributed importantly” test is generally demonstrated through a survey of customers of the workers' firm to examine the direct impact on a specific firm. While customers of National Pattern, Inc., Saginaw, Michigan reported an increase in imports of casting tooling during the relevant period, no imports were evidenced during the survey of subject firm's customers.

The Union also alleges that customers of the subject firms are importing tooling and moving facilities abroad.

A company official was requested to supply additional list of customers who might have awarded their contracts to foreign firms or were importing industrial molds and tooling. The official was not aware of any such contracts.

Conclusion

After review of the application and investigative findings, I conclude that there has been no error or misinterpretation of the law or of the facts which would justify reconsideration of the Department of Labor's prior decision. Accordingly, the application is denied.

Signed at Washington, DC this 20th day of February, 2004
Elliott S. Kushner,
Certifying Officer, Division of Trade Adjustment Assistance.

[FR Doc. 04-5609 Filed 3-11-04; 8:45 am]

BILLING CODE 4510-30-P